DEPARTMENT OF THE INTERIOR

Fish and Wildlife Service

50 CFR Part 36

[Docket No. FWS-R7-NWRS-2017-0058; FXRS12650700000 201 FF07R06000]

RIN 1018-BC74

Refuge-Specific Regulations; Public Use; Kenai National Wildlife Refuge

AGENCY: Fish and Wildlife Service, Interior.

ACTION: Proposed rule; reopening of public comment period, and announcement of a public hearing.

SUMMARY: We, the U.S. Fish and Wildlife Service, are reopening the public comment period and announcing a public hearing on our recently published proposed rule to amend our public use regulations for Kenai National Wildlife Refuge (NWR) to allow State-regulated trapping, harvest of brown bears over bait, discharge of firearms along the Kenai and Russian Rivers during certain times of the year in accordance with State law, increased access for the public using bicycles and game carts, and the use of snowmobiles, all-terrain vehicles, and utility task vehicles on certain lakes when there is adequate snow and ice cover. This action will provide all interested parties additional time and opportunity to comment on the proposed rule. Comments previously submitted need not be resubmitted and will be fully considered in preparation of the final rule.

DATES: Written comments: The comment period on the proposed rule that published June 11, 2020 (85 FR 35628), is reopened. We will accept comments received or postmarked on or before November 9, 2020. Please note that comments submitted electronically using the Federal eRulemaking Portal (see ADDRESSES, below) must be received by 11:59 p.m. Eastern Time on the closing date, and comments submitted by U.S. mail must be postmarked by that date to ensure consideration.

Public hearing: We are holding a public hearing via teleconference and over the internet so that participants can attend remotely on October 26, 2020 beginning at 4 p.m. Alaska Daylight Time (AKDT).

ADDRESSES: Availability of documents: You may obtain copies of the June 11, 2020, proposed rule and associated documents on the internet at http://www.regulations.gov under Docket No. FWS-R7-NWRS-2017-0058.

Written comments: You may submit written comments by one of the following methods:

(1) Electronically: Go to the Federal eRulemaking Portal: http://www.regulations.gov. Search for FWS-R7-NWRS-2017-0058, which is the docket number for the proposed rule. You may submit a comment by clicking on “Comment Now!” Please ensure you have found the correct document before submitting your comments. If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail or hand-delivery to: Public Comments Processing, Attn: FWS-R7-NWRS-2017-0058, U.S. Fish and Wildlife Service, MS: PRB/3W, 5275 Leesburg Pike, Falls Church, VA 22041-3803.

(3) At the public hearing: There will be an opportunity for you to provide oral public comment by telephone or webinar. See Public Hearing, below, for more information.

We request that you submit comments only by the methods described above. We will post all comments we receive on http://www.regulations.gov. This generally means that we will post any personal information you provide us (see Public Comments, below, for more information).

FOR FURTHER INFORMATION CONTACT: Andy Loranger, Refuge Manager, Kenai National Wildlife Refuge, 1 Skihill Road, Soldotna, AK 99669; telephone: 907-262-7021. Persons who use a telecommunications device for the deaf (TDD) may call the Federal Relay Service at 800-877-8339.

SUPPLEMENTARY INFORMATION:

Background

Refuge management is governed by Federal laws, such as the National Wildlife Refuge System Administration Act of 1966 (16 U.S.C. 668dd-668ee), as amended (Refuge Administration Act); the National Wildlife Refuge System Improvement Act of 1997 (Pub. L. 105-57), which amended the Refuge Administration Act; and the Alaska National Interest Lands Conservation Act of 1980 (Pub. L. 96-487); by regulations implementing these laws; by treaties; by Service policy; and by principles of sound resource management that establish standards for resource management or limit the range of potential activities (e.g., visitor use opportunities administered via special use permitting) that may be allowed on the Refuge.

On June 11, 2020, we published a proposed rule (85 FR 35628) to revise the public use regulations for Kenai NWR. This proposed rule addresses interests raised by the State of Alaska regarding the management of Alaska National Wildlife Refuges. Federal regulations regarding these refuges are found in title 50 of the Code of Federal Regulations (CFR) at part 36; the public use regulations for Kenai NWR are set forth at 50 CFR 36.39(i). The proposed rule's regulatory changes include allowing the harvest of brown bears at registered bait stations, allowing for trapping under State law without a Federal permit, allowing the discharge of firearms along the Kenai and Russian Rivers at certain times of year, increasing access by bicycles and game carts, and allowing snowmobiles, all-terrain vehicles, and utility task vehicles on certain lakes when there is adequate snow and ice cover. The purpose of the proposed rule is to align public use regulations on Kenai NWR with State of Alaska regulations, align Service and State management of fish and wildlife to the extent practicable and consistent with Federal law, enhance consistency with harvest regulations on adjacent non-Federal lands and waters, and increase access to Federal lands in furtherance of Secretarial Orders 3347 and 3356.

The June 11, 2020, proposed rule had a 60-day public comment period, ending August 10, 2020. During the comment period for the proposed rule, we received several requests for both extension of the public comment period and a public hearing. We are, therefore, reopening the comment period on our June 11, 2020, proposed rule (see DATES, above), to hold a public hearing as required by Service regulations at 50 CFR 36.42(g) for opening public uses otherwise prohibited on National Wildlife Refuges in Alaska and to allow the public additional opportunity to provide comments on our proposal.

For a description of previous Federal actions concerning refuge-specific regulations for Kenai NWR, please refer to the June 11, 2020, proposed rule (85 FR 35628).

Public Comments

We will accept comments and information during this reopened comment period on our June 11, 2020, proposed rule to revise the public use regulations for Kenai NWR. It is the policy of the Department of the Interior, whenever practicable, to afford the public an opportunity to participate in the rulemaking process. Accordingly, we will accept written comments and information from all interested parties during the reopened comment period (see DATES) on the provisions in the proposed rule, as well as other provisions of 50 CFR 36.39(i). We are soliciting public comment and supporting data to gain information on the draft environmental assessment and the proposed rule. In addition, we are soliciting information that would help inform the Service's regulatory impacts analysis, such as costs and benefits and trade-offs associated with the proposed changes to the Kenai NWR public use regulations. As a specific example, we are soliciting information or data that would help the Service quantify the effects of increasing opportunities for consumptive uses, such as brown bear hunting through the proposed allowance of hunting this species over bait on opportunities for non-consumptive uses, such as viewing and photography of brown bears on Kenai NWR, including any economic impacts which might result.

We will consider information and recommendations we received during the original comment period, as well as those that we receive during this reopened comment period, in our final determination on the June 11, 2020, proposed rule. If you already submitted comments or information on the June 11, 2020, proposed rule, please do not resubmit them. Any such comments are incorporated as part of the public record of the rulemaking proceeding, and we will fully consider them in the preparation of our final determination.

You may submit your comments and materials by one of the methods listed in ADDRESSES. We request that you send comments only by the methods described in ADDRESSES. Please see DATES, ADDRESSES, and Public Hearing in this document for information on providing your comments through verbal testimony during the public hearing.

If you submit information via http://www.regulations.gov, your entire submission—including your personal identifying information—will be posted on the website. If your submission is made via a hardcopy that includes personal identifying information, you may request at the top of your document that we withhold this information from public review. However, we cannot guarantee that we will be able to do so. We will post all hardcopy submissions on http://www.regulations.gov.

Comments and materials we receive, as well as supporting documentation we used in preparing this proposed rule, will be available for public inspection on http://www.regulations.gov at Docket No. FWS-R7-NWRS-2017-0058.

Our final determination concerning the June 11, 2020, proposed action will take into consideration all written comments we receive during the open comment periods, and comments we receive during the public hearing. These comments will be included in the public record for this rulemaking, and we will fully consider them in the preparation of our final determination.

Public Hearing

We are holding a public hearing on the date listed in DATES. We are holding the hearing via teleconference and over the internet so that participants can attend remotely. For security purposes, registration is required. To listen to the meeting by telephone, listen and view through the internet, or provide oral public comments by telephone or webinar, you must register. Please see the Kenai National Wildlife Refuge website at https://www.fws.gov/refuge/Kenai/visit/rules_and_regulations.html for information on how to register. Registrants will receive the telephone number and internet address for the public hearing.

We are holding the public hearing to provide interested parties an opportunity to learn about and present verbal testimony (formal, oral comments) regarding the June 11, 2020 (85 FR 35628), proposed rule to revise the public use regulations on Kenai NWR. A public hearing is not, however, an opportunity for individual dialogue with the Service or its contractors; it is most importantly a forum for accepting formal verbal testimony. In the event there is a large attendance, the time allotted for oral statements may be limited. Therefore, anyone wishing to make an oral statement at the public hearing for the record is encouraged to provide a prepared written copy of their statement to us through the Federal eRulemaking Portal, U.S. mail, or hand-delivery (see ADDRESSES, above). There are no limits on the length of written comments submitted to us. Anyone wishing to make an oral statement at the public hearing must register before the hearing on the Kenai National Wildlife Refuge website at https://www.fws.gov/refuge/Kenai/visit/rules_and_regulations.html.

The U.S. Fish and Wildlife Service is committed to providing access to this teleconference/webinar for all participants. Persons with disabilities requiring reasonable accommodations to participate in the public hearing should contact the Kenai NWR (see FOR FURTHER INFORMATION CONTACT). Reasonable accommodation requests should be received at least 3 business days prior to the hearing to help ensure availability.

Authors

The primary authors of this document are the National Wildlife Refuge System staff of the Alaska Regional Office, U.S. Fish and Wildlife Service.

Authority

The authorities for this action are the National Wildlife Refuge System Administration Act of 1966 (16 U.S.C. 668dd-668ee), as amended; the National Wildlife Refuge System Improvement Act of 1997 (Pub. L. 105-57); and the Alaska National Interest Lands Conservation Act of 1980 (Pub. L. 96-487).

George Wallace,
Assistant Secretary for Fish and Wildlife and Parks.

[FR Doc. 2020-21981 Filed 10-8-20; 8:45 am]

BILLING CODE 4333-15-P